FEDERAL COMMUNICATIONS COMMISSION

Public Information Collections Approved by Office of Management and Budget

July 5, 2005.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Dana Jackson, Federal Communications Commission, 445 12th Street, SW., Washington DC 20554, (202) 418-2247 or via the Internet at Dana.Jackson@fcc.gov.

SUPPLEMENTARY INFORMATION: OMB Control No.: 3060-0717.

OMB Approval date: 6/28/2005.

Expiration Date: 6/30/2008.

Title: Billed Party Preference for InterLATA 0+ Calls, CC Docket No. 92-77, 47 CFR 64.703(a), 64.709, and 64.710.

Form No.: N/A.

Estimated Annual Burden: 54,375,330 responses; 30 seconds to 50 hours average per response; 477,185 hours.

Total Annual Cost: $216,150.

Needs and Uses: Pursuant to 47 CFR 64.703(a), Operator Service Providers (OSPs) are required to disclose, audibly and distinctly to the consumer, at no charge and before connecting any interstate call, how to obtain rate quotations, including any applicable surcharges. 47 CFR 64.709 codifies the requirements for OSP's to file informational tariffs with the Commission. 47 CFR 64.710, among other things, requires providers of interstate operator services to inmates at correctional institutions to identify themselves, audibly and distinctly, to the party to be billed.

Federal Communications Commission.
Marlene H. Dortch,
Secretary.

[FR Doc. 05-13862 Filed 7-19-05; 8:45 am]

BILLING CODE 6712-01-P